DEPARTMENT OF TRANSPORTATION

Federal Highway Administration

Environmental Impact Statement: State Route (SR)-108, Davis and Weber Counties, UT

AGENCY: Federal Highway Administration (FHWA), DOT.

ACTION: Notice of Intent to Prepare an Environmental Impact Statement (EIS).

SUMMARY: The FHWA is issuing this notice to advise the public that an Environmental Impact Statement (EIS) will be prepared for a proposed roadway improvement on SR-108 in Davis and Weber Counties, Utah.

FOR FURTHER INFORMATION CONTACT: Todd Emery, Transportation and Environmental Engineer, Federal Highway Administration, 2520 West 4700 South, Suite 9A, Salt Lake City, UT 84118, Telephone: (801) 963-0078, x. 227. Charles Mace, Project Manager, Utah Department of Transportation, 166 West Southwell Street, Ogden, UT 84404, Telephone (803) 620-1685. To received project updates, please provide your name and address to one of the above addresses.

SUPPLEMENTARY INFORMATION: The FHWA, in cooperation with the Utah Department of Transportation, will prepare an EIS on a proposal to improve SR-108 in Davis and Weber Counties. The proposed improvements would involve reconstruction of the existing SR-108 between SR-127 (West Antelope Drive) in Syracuse and SR-126 (1900 West) in West Haven, a distance of about 9.5 miles. The project would go through the cites of Syracuse, West Point, Clinton, Roy, and West Haven, Utah.

Improvements to SR-108 are necessary to provide for projected 2035 travel demand, and improve safety and regional mobility. Alternatives under consideration include (1) Taking no-action (no-build); (2) using alternative travel modes; (3) employing access control and transportation demand management to improve the efficiency of the existing road network; and (4) widening the existing two-lane roadway to five lanes or the appropriate number of lanes to address travel demand needs. Incorporated into and studied with the various build alternatives will be design variations for key intersections along the roadway. In addition, alternatives identified in the scoping process will be evaluated in the EIS.

Letters describing the proposed action and soliciting comments will be sent to appropriate Federal, State, and local agencies, and to private organizations and citizens who have previously expressed or are known to have interest in this proposal. A series of public meetings to solicit input on the project, identify potential alternatives, and obtain information about the community will be held in the proximity of the project starting in late July 2006. Information on the time and location of the public meeting will be provided to the community in local news papers and fliers through the mail. In addition, a public hearing to seek input on the alternatives evaluated in detail will be held after the draft EIS has been prepared. The draft EIS will be available for public and agency review and comment before the public hearing.

To ensure that a full range of issues related to the proposed action is addressed and all significant issues are identified, comments and suggestions are invited from all interested parties. Comments or questions concerning the proposed action and the EIS should be directed to the FHWA or the Utah Department of Transportation at the addresses provided above.

(Catalog of Federal and Domestic Assistance Program Number 20.205, Highway Research, Planning and Construction. The regulations implementing Executive Order 12372 regarding intergovernmental consultation on Federal programs and activities apply to this program)

Walter C. Waidelich,
Division Administrator, Salt Lake City, Utah.

[FR Doc. 06-5655 Filed 6-23-06; 8:45 am]

BILLING CODE 4910-22-M